LIBRARY OF CONGRESS

U.S. Copyright Office

[Docket No. 2019-6]

Unclaimed Royalties Study

AGENCY: U.S. Copyright Office, Library of Congress.

ACTION: Notice of public roundtables.

SUMMARY: The U.S. Copyright Office will be holding public roundtables as part of its study to evaluate best practices that the newly established mechanical licensing collective may implement to identify and locate musical work copyright owners and unclaimed accrued royalties held by the collective, encourage musical work copyright owners to claim their royalties, and reduce the incidence of unclaimed royalties. Music industry participants and others interested in participating in the roundtables are invited to submit requests to participate pursuant to the instructions set forth below.

DATES: The public roundtables will be held on March 25, 2021. Requests to participate must be received no later than 11:59 p.m. Eastern time on February 26, 2021. Once the roundtable agenda is finalized, the Office will notify all participants and post the times and dates of the roundtables at https://copyright.gov/policy/unclaimed-royalties/.

ADDRESSES: The Office will conduct the roundtables remotely using the Zoom videoconferencing platform. Requests to participate should be submitted through the request form available at https://www.copyright.gov/policy/unclaimed-royalties/roundtable-request.html. Additional information will be made available at https://www.copyright.gov/policy/unclaimed-royalties/roundtable.

FOR FURTHER INFORMATION CONTACT: Jason E. Sloan, Assistant General Counsel, by email at jslo@copyright.gov; or Cassandra G. Sciortino, Attorney-Advisor, by email at csciortino@copyright.gov. Each can be contacted by telephone by calling (202) 707-8350.

SUPPLEMENTARY INFORMATION: The U.S. Copyright Office (“Office”) is undertaking a policy study as directed by the Music Modernization Act to evaluate best practices that the newly established mechanical licensing collective (“MLC”) may implement to reduce the incidence of unclaimed royalties. The Office initiated the study on December 6, 2019, with an all-day educational symposium to facilitate discussion on these issues by a broad range of industry participants and members of the public.¹ The Office also commissioned a report on matching and royalty distribution practices of various collective management organizations (“CMOs”) around the world. A transcript of the symposium as well as the report of global collective rights management practices are provided on the Office's website for public consideration.² On June 2, 2020, the Office issued a notice of inquiry (“NOI”) which solicited public comment on several topics concerning best practices to identify and locate musical work copyright owners and unclaimed accrued royalties held by the collective, encourage musical work copyright owners to claim their royalties, and reduce the incidence of unclaimed royalties, including by commenting upon the prior symposium and comparative report.³ The Office received two rounds of public comments in August 2020. Information about the study, including the NOI, public comments, symposium materials, and comparative report may be accessed on the Office's website at https://www.copyright.gov/policy/unclaimed-royalties/.

¹ 84 FR 58176 (Oct. 30, 2019); U.S. Copyright Office, Unclaimed Royalties Study Kickoff Symposium, https://www.copyright.gov/policy/unclaimed-royalties/symposium/.

² Susan Butler, Collective Right Management Practices Around the World: A Survey of CMO Practices to Reduce the Occurrence of Unclaimed Royalties in Musical Works (2020), https://www.copyright.gov/policy/unclaimed-royalties/cmo-full-report.pdf. The transcript of the symposium is available at https://www.copyright.gov/policy/unclaimed-royalties/transcript.pdf.

³ 85 FR 33735 (June 2, 2020).

The Office will now hold roundtable discussions to allow interested members of the public to discuss and provide additional information on the topics of the study. The Office also will provide sign-up information for members of the public who wish to observe, but not participate in, one or more of the roundtable sessions. The sessions will be video recorded and transcribed, and copies of the recording and transcript will be made available on the Office's website.

A. Submitting Requests To Participate

A request to participate should be submitted to the Office using the form on the Office's website indicated in the ADDRESSES section above by February 26, 2021. Shortly thereafter, the Office will notify participants of their selection and session assignments. In order to accommodate the expected level of interest, the Office plans to assign no more than one representative per organization to each session. If multiple persons from the same organization wish to participate on different issues, each should submit a separate request. Depending upon the number and nature of the requests, the Office may not be able to accommodate all requests to participate.

The public roundtables will offer an opportunity for interested parties to comment on the information submitted to the Office to date and offer additional views concerning the best practices the MLC may implement to reduce the incidence of unclaimed royalties. While the Office will tailor sessions based on expressions of interest, it expects that sessions will address various issues related to data matching and identification of musical work copyright owners; user experience and accessibility of the public database and claiming portal; education and outreach to promote awareness and encourage royalty claiming; and holding and distribution of accrued royalties. Although the primary focus of the statutorily-mandated study must remain on best practices the Office may recommend for the MLC to consider in order to reduce the overall incidence of unclaimed accrued royalties, the Office will also entertain discussion of how other actors in the music ecosystem may support the successful administration of the section 115 blanket license.

All requests to participate must clearly identify:

• The name of the person desiring to participate;

• The organization or organizations represented, if any;

• Contact information; and

• A two- to three-sentence summary of the substantive issues the participant expects to discuss.

Following receipt of the requests to participate, the Office will prepare an agenda listing the participants, dates, and times for each session. These will be circulated to participants and posted at https://www.copyright.gov/policy/unclaimed-royalties/roundtable on or about March 18, 2021.

B. Format of Public Roundtables

Each roundtable session will cover a topic relevant to the study, as discussed above. Depending on the level of interest, the Office may hold multiple sessions on the same topic to accommodate a greater number of participants and provide additional time for discussion. Following a discussion of the various agenda topics by roundtable participants, members of the public will be provided a limited opportunity to offer additional comments for the record, but parties who wish to provide detailed information to the Office are encouraged to submit a request to participate.

Dated: February 2, 2021.
Regan A. Smith,
General Counsel and Associate Register of Copyrights.

[FR Doc. 2021-02460 Filed 2-5-21; 8:45 am]

BILLING CODE 1410-30-P